DEPARTMENT OF COMMERCE

International Trade Administration

[A-489-501]

Certain Welded Carbon Steel Pipe and Tube From Turkey: Extension of Time Limit for Preliminary Results of Antidumping Duty Administrative Review

AGENCY: Import Administration, International Trade Administration, Department of Commerce.

ACTION: Notice of extension of time limit for preliminary results of antidumping duty administrative review.

EFFECTIVE DATE: November 1, 2004.

FOR FURTHER INFORMATION CONTACT: Martin Claessens or Jim Terpstra at (202) 482-5451 or (202) 482-3965, respectively, AD/CVD Operations, Office 3, Import Administration, International Trade Administration, U.S. Department of Commerce, 14th Street and Constitution Avenue, NW., Washington, DC 20230.

SUPPLEMENTARY INFORMATION:

Time Limits

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On June 30, 2004, the Department initiated an administrative review of the antidumping duty order on certain welded carbon steel pipe and tube from Turkey. See Initiation of Antidumping and Countervailing Duty Administrative Reviews and Request for Revocation in Part, 69 FR 39409. The preliminary results are currently due no later than January 31, 2005.

Extension of Time Limit for Preliminary Results of Review

This administrative review covers a large group of production facilities and involves complex issues related to production costs and different types of transactions involving the sale of welded carbon steel pipe and tube. In addition, because this administrative review involves two affiliated companies that the Department has not previously reviewed, the Department must analyze large amounts of data to which it has not had access before now. Therefore, the Department is extending the time limit for completion of the preliminary results to May 31, 2005. This extension is in accordance with section 751(a)(3)(A) of the Act.

Dated: October 26, 2004.
Jeffrey A. May,
Deputy Assistant Secretary for Import Administration.

[FR Doc. E4-2954 Filed 10-29-04; 8:45 am]

BILLING CODE 3510-DS-P